DEPARTMENT OF DEFENSE

Defense Acquisition Regulations System

48 CFR 202, 209, 214, et al.

Defense Federal Acquisition Regulations Supplement; Technical Amendments

Correction

In rule document E9-20416 beginning on page 42779 in the issue of Tuesday, August 25, 2009, make the following correction:

On page 42780 starting in the first column, the definition for Contracting activity in section 202.101 is corrected to read as follows:

202.101 Definitions.

* * * * *

Contracting activity for DoD also means elements designated by the director of a defense agency which has been delegated contracting authority through its agency charter. DoD contracting activities are—

Department of Defense

Counterintelligence Field Activity

Department of Defense Education Activity

TRICARE Management Activity

Washington Headquarters Services, Acquisition and Procurement Office

Army

Headquarters, U.S. Army Contracting Command

Joint Contracting Command—Iraq/Afghanistan

National Guard Bureau

Program Executive Office for Simulation, Training, and Instrumentation

U.S. Army Aviation and Missile Life Cycle Management Command

U.S. Army Communications-Electronics Life Cycle Management Command

U.S. Army Corps of Engineers

U.S. Army Expeditionary Contracting Command

U.S. Army Intelligence and Security Command

U.S. Army Joint Munitions and Lethality Life Cycle Management Command

U.S. Army Medical Command

U.S. Army Medical Research and Materiel Command

U.S. Army Mission and Installation Contracting Command

U.S. Army Research, Development, and Engineering Command

U.S. Army Space and Missile Defense Command

U.S. Army Sustainment Command

U.S. Army Tank-Automotive and Armaments Life Cycle Management Command

Navy

Office of the Deputy Assistant Secretary of the Navy (Acquisition & Logistics Management)

Naval Air Systems Command

Space and Naval Warfare Systems Command

Naval Facilities Engineering Command

Naval Inventory Control Point

Naval Sea Systems Command

Naval Supply Systems Command

Office of Naval Research

Military Sealift Command

Strategic Systems Programs

Marine Corps Systems Command

Installations and Logistics, Headquarters, U.S. Marine Corps

Air Force

Office of the Assistant Secretary of the Air Force (Acquisition)

Office of the Deputy Assistant Secretary (Contracting)

Air Force Materiel Command

Air Force Reserve Command

Air Combat Command

Air Mobility Command

Air Education and Training Command

Pacific Air Forces

United States Air Forces in Europe

Air Force Space Command

Air Force District of Washington

Air Force Operational Test & Evaluation Center

Air Force Special Operations Command

United States Air Force Academy

Aeronautical Systems Center

Air Armament Center

Electronic Systems Center

Space and Missile Systems Center

Defense Advanced Research Projects Agency

Office of the Deputy Director, Management

Defense Business Transformation Agency

Contracting Office

Defense Commissary Agency

Directorate of Contracting

Defense Contract Management Agency

Office of the Director, Defense Contract Management Agency

Defense Finance And Accounting Service

External Services, Defense Finance and Accounting Service

Defense Information Systems Agency

Defense Information Technology Contracting Organization

Defense Intelligence Agency

Office of Procurement

Defense Logistics Agency

Acquisition Management Directorate

Defense Supply Centers

Defense Energy Support Center

Defense Security Cooperation Agency

Contracting Division

Defense Security Service

Acquisition and Contracting Branch

Defense Threat Reduction Agency

Acquisition Management Office

Missile Defense Agency

Headquarters, Missile Defense Agency

National Geospatial-Intelligence Agency

Procurement and Contracting Office

National Security Agency

Headquarters, National Security Agency

United States Special Operations Command

Headquarters, United States Special Operations Command

United States Transportation Command

Directorate of Acquisition

* * * * *

[FR Doc. Z9-20416 Filed 8-28-09; 8:45 am]

BILLING CODE 1505-01-D